DEPARTMENT OF TRANSPORTATION

Federal Aviation Administration

14 CFR Part 39

[Docket No. FAA-2005-20441; Directorate Identifier 2003-CE-35-AD]

RIN 2120-AA64

Airworthiness Directives; BURKHART GROB LUFT—UND RAUMFAHRT GmbH & CO KG Models G103 TWIN ASTIR, G103A TWIN II ACRO, and G103C TWIN III ACRO Sailplanes

AGENCY: Federal Aviation Administration (FAA), DOT.

ACTION: Notice of proposed rulemaking (NPRM).

SUMMARY: The FAA proposes to revise Airworthiness Directive (AD) 2003-19-14 R1, which applies to certain BURKHART GROB LUFT—UND RAUMFAHRT GmbH & CO KG (GROB) Models G103 TWIN ASTIR, G103A TWIN II ACRO, and G103C TWIN III ACRO sailplanes. AD 2003-19-14 R1 requires you to modify the airspeed indicators, install flight speed reduction and aerobatic maneuver restrictions placards (as applicable), and revise the flight and maintenance manuals. AD 2003-19-14 R1 approves simple aerobatic maneuvers for Model G103A TWIN II ACRO sailplanes and provides an option for modifying the rear fuselage for Models G103A TWIN II ACRO and G103C TWIN III ACRO sailplanes to terminate the flight limitation restrictions for aerobatic maneuvers. This proposed AD retains all the actions from AD 2003-19-14 R1 for Models G103A TWIN II ACRO and G103C TWIN III ACRO and would reinstate certain operating limits for Model G103 TWIN ASTIR sailplanes. We are issuing this proposed AD to prevent damage to the fuselage during limit load flight, which could result in reduced structural integrity. This condition could lead to loss of control of the sailplane.

DATES: We must receive any comments on this proposed AD by April 20, 2005.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact GROB Luft—und Raumfahrt, Lettenbachstrasse 9, D-86874 Tussenhausen-Mattsies, Germany; telephone: 011 49 8268 998139; facsimile: 011 49 8268 998200; e-mail: productsupport@grob-aerospace.de.

To view the comments to this proposed AD, go to http://dms.dot.gov. The docket number is FAA-2005-20441; Directorate Identifier 2003-CE-35-AD.

FOR FURTHER INFORMATION CONTACT: Gregory A. Davison, Aerospace Engineer, FAA, Small Airplane Directorate, 901 Locust, Room 301, Kansas City, Missouri 64106; telephone: (816) 329-4130; facsimile: (816) 329-4090.

SUPPLEMENTARY INFORMATION:

Comments Invited

How do I comment on this proposed AD? We invite you to submit any written relevant data, views, or arguments regarding this proposal. Send your comments to an address listed under ADDRESSES. Include the docket number, “FAA-2005-20441; Directorate Identifier 2003-CE-35-AD” at the beginning of your comments. We will post all comments we receive, without change, to http://dms.dot.gov, including any personal information you provide. We will also post a report summarizing each substantive verbal contact with FAA personnel concerning this proposed rulemaking. Using the search function of our docket web site, anyone can find and read the comments received into any of our dockets, including the name of the individual who sent the comment (or signed the comment on behalf of an association, business, labor union, etc.). This is docket number FAA-2005-20441; Directorate Identifier 2003-CE-35-AD. You may review the DOT's complete Privacy Act Statement in the Federal Register published on April 11, 2000 (65 FR 19477-78), or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

Has FAA taken any action to this point? Reports from the Luftfahrt-Bundesamt (LBA), which is the airworthiness authority for Germany, that the safety margins established into the design of the fuselage may not be sufficient to sustain limit loads during certain maneuvers and during flight at certain speeds for Model G103 TWIN ASTIR, G103 TWIN II, G103A TWIN II ACRO, and G103C TWIN III ACRO sailplanes. This caused us to issue AD 2003-19-14, Amendment 39-13317 (68 FR 56152, September 30, 2003). AD 2003-19-14 required the following:

—Modifying the airspeed indicators;

—Installing placards restricting flight speeds, prohibiting aerobatic maneuvers, and restricting load limits; and

—Incorporating revisions to the flight and maintenance manuals.

AD 2003-19-14 was issued as an interim action until the manufacturer completed further investigations into the effects of certain flight conditions on the fuselage structure and the development of corrective procedures.

The manufacturer conducted further investigations and static strength tests to verify the safety margins of the fuselage on the affected sailplanes. This information prompted us to issue AD 2003-19-14 R1, Amendment 39-13676 (69 FR 34258, June 21, 2004). AD 2003-19-14 R1 requires the following:

For Model G103 TWIN ASTIR sailplanes:

—Retain all flight limitation restrictions in AD 2003-19-14.

For Model G103 TWIN II sailplanes:

—Reinstate the original flight speed limitations and maneuver operations and remove from the applicability section of AD 2003-19-14;

For Model G103A TWIN II ACRO (utility category) sailplanes:

—Reinstate the original flight speed limitations and maneuver operations; and

—Allow only basic aerobatic maneuvers (spins, lazy eights, chandelles, stall turns, steep turns, and positive loops).

For Model G103A TWIN II ACRO (aerobatic category) sailplanes:

—Reinstate the original flight speed limitations except for rough air (VB) and maneuvering speeds (VA); and

—Allow only basic aerobatic maneuvers (spins, lazy eights, chandelles, stall turns, steep turns, and positive loops).

For Model G103C TWIN III ACRO sailplanes:

—Increase airspeed limits specified in AD 2003-19-14 but maintain a reduction from the original limitations; and

—Retain restrictions in AD 2003-19-14 on all aerobatic flights, including simple maneuvers, and cloud flying.

The manufacturer also developed a modification for Models G103A TWIN II ACRO (aerobatic category) and G103C TWIN III ACRO sailplanes (aerobatic category). When this modification is incorporated, full acrobatic status is restored to these sailplanes.

What has happened since AD 2003-19-14 R1 to initiate this proposed action? The LBA recently notified FAA of the need to change AD 2003-19-14 R1. Based on analysis, the LBA reports that certain limits of operation for Model G103 TWIN ASTIR sailplanes may be reinstated.

Specifically, the maximum airspeed in calm air (VNE) could be reinstated to 135 knots (155 mph/250 kmh) for Model G103 TWIN ASTIR sailplanes. Aerobatic flight is still prohibited; however, simple aerobatic flight (looping, steep turns, lazy eights, and chandelles) may be performed following the flight manual.

Is there service information that applies to this subject? GROB Luft—und Raumfahrt has issued Service Bulletin MSB 315-64/3, dated September 14, 2004.

What are the provisions of this service information? The service bulletin includes procedures for:

—Applying a red mark on the front and rear cockpit air speed indicator at 135 knots (155 mph/205 kmh);

—Replacing the front and rear cockpit limitations placard with one that contains the new flight speed operating limitations;

—Prohibiting aerobatic flight, except for simple aerobatic flight (looping, steep turns, lazy eights, and chandelles) may be performed following the flight manual; and

—Revising the flight and maintenance manuals.

What action did the LBA take? The LBA classified this service bulletin as mandatory and issued German AD Number D-2003-231R3, dated November 9, 2004, to ensure the continued airworthiness of these sailplanes in Germany.

Did the LBA inform the United States under the bilateral airworthiness agreement? These GROB Models G103 TWIN ASTIR, G103A TWIN II ACRO, and G103C TWIN III ACRO sailplanes are manufactured in Germany and are type-certificated for operation in the United States under the provisions of section 21.29 of the Federal Aviation Regulations (14 CFR 21.29) and the applicable bilateral airworthiness agreement.

Under this bilateral airworthiness agreement, the LBA has kept us informed of the situation described above.

FAA's Determination and Requirements of This Proposed AD

What has FAA decided? We have examined the LBA's findings, reviewed all available information, and determined that AD action is necessary for products of this type design that are certificated for operation in the United States.

Since the unsafe condition described previously is likely to exist or develop on other GROB Models G103 TWIN ASTIR, G103A TWIN II ACRO, and G103C TWIN III ACRO sailplanes of the same type design that are registered in the United States, we are proposing AD action to prevent damage to the fuselage during limit load flight, which could result in reduced structural integrity. This condition could lead to loss of control of the sailplane.

What would this proposed AD require? This proposed AD would revise AD 2003-19-14 R1 with a new AD that would:

(1) retain the actions required in AD 2003-19-14 R1 for Models G103A

TWIN II ACRO and G103C TWIN III ACRO sailplanes; and

(2) reinstate certain operating limits by incorporating the actions in the previously-referenced service bulletin for Model G103 TWIN ASTIR sailplanes.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many sailplanes would this proposed AD impact? We estimate that this proposed AD affects 94 sailplanes in the U.S. registry.

What would be the cost impact of this proposed AD on owners/operators of the affected sailplanes? We estimate the following costs to accomplish the proposed modifications to the airspeed indicators, flight limitations placards, and revising the flight and maintenance manuals:

Labor cost | Parts cost | Total cost per sailplane | Total cost on U.S. operators
1 work hour × $65 = $65 | Not applicable | $65 | $65 × 94 = $6,110

For G103A TWIN II ACRO (aerobatic category) sailplanes and G103C TWIN III ACRO (aerobatic category) sailplanes, we estimate the following costs to accomplish the proposed fuselage modification:

Labor cost | Parts cost | Total cost per sailplane
30 work hours × $65 = $1,950 | $5,307 | $7,257

What is the difference between the cost impact of this proposed AD and the cost impact of AD 2003-19-14 R1? There is no cost difference between this proposed AD and AD 2003-19-14 R1. This proposed AD is only revising certain operating limits for certain Model G103 TWIN ASTIR. This proposed AD does not require any additional actions than are currently required in AD 2003-19-14 R1.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket FAA-2005-20441; Directorate Identifier 2003-CE-35-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2003-19-14 R1, Amendment 39-13676 (69 FR 34258, June 21, 2004), and by adding a new AD to read as follows:

Burkhart Grob Luft—Und Raumfahrt GmbH & Co KG: Docket No. FAA-2005-20441; Directorate Identifier 2003-CE-35-AD; Revises AD 2003-19-14 R1, Amendment 39-13676.

When Is the Last Date I Can Submit Comments on This Proposed AD?

(a) We must receive comments on this proposed airworthiness directive (AD) by April 20, 2005.

What Other ADs Are Affected by This Action?

(b) This AD revises AD 2003-19-14 R1, Amendment 39-13676.

What Sailplanes Are Affected by This AD?

(c) This AD affects the following sailplane models and serial numbers that are certificated in any category:

Model | Serial Nos.
G103 TWIN ASTIR | All serial numbers.
G103A TWIN II ACRO (aerobatic category) | 3544 through 34078 with suffix “K”.
G103C TWIN III ACRO (aerobatic category) | 34101 through 34203.

What Is the Unsafe Condition Presented in This AD?

(d) This AD is the result of mandatory continuing airworthiness information (MCAI) issued by the airworthiness authority for Germany. The actions specified in this AD are intended to prevent damage to the fuselage during limit load flight, which could result in reduced structural integrity. This condition could lead to loss of control of the sailplane.

What Must I Do To Address This Problem?

(e) To address this problem, you must do the following:

Actions | Compliance | Procedures
(1) For G103 TWIN ASTIR sailplanes, serial numbers 3000 through 3290: (i) Re-set the airspeed indicator to the new placard limitations; (ii) Install the following placard: | Within the next 25 hours time-in-service (TIS) after the effective date of this AD, unless already done. | Following GROB Service Bulletin No. MSB315-64/3, dated September 14, 2004.

(iii) You may perform simple aerobatic flight (looping, steep turns, lazy eights, and chandelles) following the flight manual; and
(iv) Revise the flight and maintenance manuals.

(2) For G103A TWIN II ACRO (acrobatic category) and G103C TWIN III ACRO (acrobatic category) sailplanes: (i) Re-set the airspeed indicator to the new placard limitations; and (ii) Install the following placards on Model G103A TWIN II ACRO (aerobatic category) sailplanes: | Within the next 25 hours time-in-service (TIS) after August 12, 2004 (the effective date AD 2003-19-14 R1), unless already done. | Follow Grob Service Bulletin No. MSB315-65, dated September 15, 2003.

(iii) Install the following placards on Model G103C TWIN II ACRO (aerobatic category) sailplanes:

(3) For G103A TWIN II ACRO (acrobatic category) and G103C TWIN III ACRO (acrobatic category) sailplanes: as an alternative to the flight restrictions in paragraph (e)(2) of this AD, you may install additional stringers in the rear fuselage section. Installing additional stringers terminates the flight restrictions in paragraph (e)(2) of this AD. | At any time after August 12, 2004 (the effective date AD 2003-19-14 R1). | Follow Grob Service Bulletin No. OSB 315-66, dated October 16, 2003, and Work Instruction for OSB 315-66, dated October 16, 2003.
(4) For G103A TWIN II ACRO (acrobatic category) and G103C TWIN III ACRO (acrobatic category) sailplanes: only if you installed the additional stringers specified in paragraph (e)(3) of this AD, do the following: (i) Remove the placard prohibiting all aerobatic maneuvers; (ii) Install the following flight limitation placard on Model G103A TWIN II ACRO (aerobatic category) sailplanes: | Prior to further flight after doing the actions in paragraph (e)(3) of this AD. | Allow Grob Service Bulletin No. OSB 315-66, dated October 16, 2003

(iii) Install the following placards on Model G103C TWIN II ACRO (aerobatic category) sailplanes:

Note: The placard information in this AD is different than the information in the applicable service bulletins. This AD takes precedence over the service bulletins. You should update your placards to reflect the information presented in this AD.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Gregory A. Davison, Aerospace Engineer, FAA, Small Airplane Directorate, 901 Locust, Room 301, Kansas City, Missouri 64106; telephone: (816) 329-4130; facsimile: (816) 329-4090.

Is There Other Information That Relates to This Subject?

(g) German AD D-2003-231R3, dated November 9, 2004, also addresses the subject of this AD.

May I Get Copies of the Documents Referenced in This AD?

(h) To get copies of the documents referenced in this AD, contact GROB Luft-und Raumfahrt, Lettenbachstrasse 9, D-86874 Tussenhausen-Mattsies, Germany; telephone: 011 49 8268 998139; facsimile: 011 49 8268 998200; e-mail: productsupport@grob-aerospace.de. To view the AD docket, go to the Docket Management Facility; U.S. Department of Transportation, 400 Seventh Street, S.W., Nassif Building, Room PL-401, Washington, DC, or on the Internet at http://dms.dot.gov. This is docket number FAA-2005-20441; Directorate ID 2003-CE-35-AD.

Issued in Kansas City, Missouri, on March 15, 2005.
David R. Showers,
Acting Manager, Small Airplane Directorate, Aircraft Certification Service.

[FR Doc. 05-5693 Filed 3-22-05; 8:45 am]

BILLING CODE 4910-13-P